SURFACE TRANSPORTATION BOARD

[Docket No. FD 36143]

Goose Lake Railway, LLC—Change in Operator Exemption—LRY, LLC d.b.a. Lake Railway

Goose Lake Railway, LLC (GLRY), a noncarrier, has filed a verified notice of exemption under 49 CFR 1150.31 to assume operations over approximately 54.45 miles of rail line, known as the Lakeview Branch, between milepost 458.60 at Alturas, Cal., and milepost 513.05 at Lakeview, Or. (the Line).¹

¹ This is the same rail line that the Board addressed in a declaratory order proceeding earlier this year. See LRY, LLC—Pet. for Declaratory Order—Rail Line in Lake Cty., Or. & Modoc Cty., Cal., FD 36117 (STB served June 12, 2017).

GLRY states that the Line is owned by Lake County, Or. (Lake County), and LRY, LLC d.b.a. Lake Railway (LRY) currently operates it pursuant to a lease agreement.² According to GLRY, Lake County acquired the Line from the Southern Pacific Transportation Company (SPTC) after the Board's predecessor, the Interstate Commerce Commission, authorized SPTC to abandon it.³ Lake County was authorized to operate the Line pursuant to a Modified Rail Certificate.⁴ GLRY states that, under the new operating agreement, GLRY will replace LRY as the operator of the Line upon consummation and LRY will have no further common carrier obligation with respect to the Line. GLRY also states that LRY has agreed to terminate its operation over the Line upon consummation of the transaction between GLRY and Lake County and does not object to the proposed change in operators.

² See LRY, LLC—Lease & Operation Exemption—Rail Line in Lake Cty., Or., FD 35250 (Sub-No. 1) (STB served Dec. 18, 2009).

³ See S. Pac. Transp. Co.—Aban.—in Modoc Cty., Cal., & Lake Cty., Or., AB 12 (Sub-No. 84) (ICC served Oct. 20, 1985).

⁴ See Lake Cty. R.R.—Modified Rail Certificate, FD 33581 (STB served Apr. 24, 1998).

GLRY states that the proposed change in operators does not involve any provision or agreement that would limit future interchange with a third-party connecting carrier. GLRY certifies that its projected annual revenues as a result of this transaction will not result in the creation of a Class II or Class I rail carrier and would not exceed $5 million.

Under 49 CFR 1150.32(b), a change in operators requires that notice be given to shippers. GLRY certifies that it has provided notice of the proposed change in operators to all known shippers on the Line.

GLRY intends to consummate the proposed transaction on or about September 9, 2017, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 1, 2017 (at least seven days before the exemption becomes effective).

An original and 10 copies of all pleadings, referring to Docket No. FD 36143, must be filed with the Surface Transportation Board, 395 E Street SW., Washington, DC 20423-0001. In addition, one copy of each pleading must be served on Robert A. Wimbish, Fletcher & Sippel LLC, 29 North Wacker Drive, Suite 920, Chicago, IL 60606.

According to GLRY, this action is excluded from environmental review under 49 CFR 1105.6(c) and from historic preservation reporting requirements under 49 CFR 1105.8(b)(1).

Board decisions and notices are available on our Web site at WWW.STB.GOV.

Decided: August 22, 2017.
By the Board, Rachel D. Campbell, Director, Office of Proceedings.
Rena Laws-Byrum,
Clearance Clerk.

[FR Doc. 2017-18054 Filed 8-24-17; 8:45 am]

BILLING CODE 4915-01-P